DEPARTMENT OF THE INTERIOR

Geological Survey

[GX21EE000101100]

Notice of Public Meeting of Scientific Earthquake Studies Advisory Committee

AGENCY: Geological Survey, Interior.

ACTION: Notice of teleconference meeting.

SUMMARY: In accordance with the Federal Advisory Committee Act of 1972, the U.S. Geological Survey (USGS) is hereby giving notice that the Scientific Earthquake Studies Advisory Committee (SESAC) will meet as noted below.

DATES: The teleconference meetings will be held on Thursday, May 11, 2023, from 11 a.m. to 1 p.m. and 3 p.m. to 5 p.m. Eastern Daylight Time (EDT); Monday, May 15, 2023, from 12 p.m. to 2 p.m. EDT; and Wednesday, May 17, 2023, from 12 p.m. to 2 p.m. EDT.

FOR FURTHER INFORMATION CONTACT: Dr. Gavin Hayes, USGS, by email at ghayes@usgs.gov or by telephone at 303-374-4449. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The teleconference meeting will be open to the public. The SESAC will review the current activities of the USGS Earthquake Hazards Program (EHP) and discuss future priorities. Agenda topics will include EHP strategic planning; administration priorities and interactions; budget opportunities; balance of activities supported by the EHP; External Grants; National Earthquake Hazards Reduction Program; National Seismic Hazard Model; ShakeAlert; and reports from SESAC subcommittees.

Meeting Accessibility/Special Accommodations: Please make requests in advance for sign language interpreter services, assistive listening devices, or other reasonable accommodations. We ask that you contact the person listed in the FOR FURTHER INFORMATION CONTACT section of this notice at least seven (7) business days prior to the meeting to give the Department of the Interior sufficient time to process your request. All reasonable accommodation requests are managed on a case-by-case basis.

Members of the public wishing to participate in the teleconference meeting should contact Dr. Gavin Hayes by email at ghayes@usgs.gov no later than three (3) business days prior to the meeting. Teleconference meeting call-in information and any updates to the agenda will be provided via email to registered participants.

Time will be allowed at the public meeting for any individual or organization wishing to make formal oral comments. To allow for full consideration of information by the SESAC members, written notice must be provided to Dr. Gavin Hayes by email at ghayes@usgs.gov at least three (3) business days prior to the meeting. Any written comments received will be provided to the SESAC members. Detailed minutes of the meeting will be available for public inspection within 90 days of the meeting.

Public Disclosure of Comments: Before including your address, phone number, email address, or other personally identifiable information (PII) in your comment, you should be aware that your entire comment—including your PII—may be made publicly available at any time. While you may ask us in your comment to withhold your PII from public review, we cannot guarantee that we will be able to do so.

Authority: 5 U.S.C. 10.

Linda R. Huey,
Program Specialist, Natural Hazards Mission Area.

[FR Doc. 2023-06888 Filed 4-3-23; 8:45 am]

BILLING CODE 4338-11-P